NEIGHBORHOOD REINVESTMENT CORPORATION

Sunshine Act Meetings

TIME AND DATE: 10:00 a.m., Thursday, February 11, 2021

PLACE: Via Conference Call

STATUS: Parts of this meeting will be open to the public. The rest of the meeting will be closed to the public.

MATTERS TO BE CONSIDERED: Audit Committee meeting.

The General Counsel of the Corporation has certified that in his opinion, one or more of the exemptions set forth in 5 U.S.C. 552 (b)(2) and (4) permit closure of the following portion(s) of this meeting:

• Executive Session

Agenda

I. Call to Order

II. Executive Session: Chief Audit Executive

III. Action Item Presentation of the FY2021 Risk Assessment & Internal Audit Plan

IV. Action Item Internal Audit Reports with Management's Response

V. Internal Audit Status Reports

VI. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2021-02425 Filed 2-2-21; 4:15 pm]

BILLING CODE 7570-02-P